DEPARTMENT OF DEFENSE

GENERAL SERVICES ADMINISTRATION

NATIONAL AERONAUTICS AND SPACE ADMINISTRATION

48 CFR Part 52

[FAC 2005-31; FAR Case 2006-032;Item I; Docket 2007-0002; Sequence 11]

RIN 9000-AK78

Federal Acquisition Regulation; FAR Case 2006-032, Small Business Size Rerepresentation

Correction

In rule document E9-5871 beginning on page 11821 in the issue of Thursday, March 19, 2009 make the following corrections:

52.212-5 [Corrected]

1. On page 11825, in the third column, in 52.212-5, in the clause,

“CONTRACT TERMS AND CONDITIONS REQUIRED TO IMPLEMENT STATUTES OR EXECUTIVE ORDERS—COMMERCIAL ITEMS (MAR 2009)”

should read

“CONTRACT TERMS AND CONDITIONS REQUIRED TO IMPLEMENT STATUTES OR EXECUTIVE ORDERS—COMMERCIAL ITEMS (APR 2009)”.

2. In the same clause, in the same section, paragraph (b)(16) is printed to read as set forth below:

(b) * * *

(16) 52.219-28, Post Award Small Business Program Rerepresentation (APR 2009) (15 U.S.C. 632(a)(2)).

52.219-28 [Corrected]

3. On page 11825, in the third column, in 52.219-28, in the clause,

“POST-AWARD SMALL BUSINESS PROGRAM REREPRESENTATION (MAR 2009)”

should read

“POST-AWARD SMALL BUSINESS PROGRAM REREPRESENTATION (APR 2009)”.

[FR Doc. Z9-5871 Filed 3-30-09; 8:45 am]

BILLING CODE 1505-01-D